DEPARTMENT OF DEFENSE

Office of the Secretary

[DOD-2006-OS-0086]

Notice of Intent To Grant a Partially Exclusive License; PeopleMatter, Inc.

AGENCY: Office the Secretary, DoD.

ACTION: Notice.

SUMMARY: The National Security Agency hereby gives notice of its intent to grant PeopleMatter, Inc. a revocable, nonassignable, partially exclusive, license to practice the following Government-Owned invention as described in U.S. Patent NO. 6,904,564 entitle: “Method of Summarizing Text Using Just the Text”, commonly known as KODA, issued 07 June 2005, in the field of Human Resource Management.

The above-mentioned invention is assigned to the United States Government as represented by the National Security Agency.

DATES: Anyone wishing to object to the grant of this license has fifteen (15) days from the date of this notice to file written objections along with any supporting evidence, if any.

ADDRESSES: Written objections are to be filed with the Domestic Technology Transfer Program, 9800 Savage Rd, Ste 6541, Fort George G. Meade, Maryland 20755-6541.

FOR FURTHER INFORMATION CONTACT: Pamela L. Porter, Director, Domestic Technology Transfer program, 9800 Savage Road, Suite 6541, Fort George G. Meade, Maryland 20755-6541, telephone (443) 479-0310.

Dated: May 10, 2006.
L. M. Bynum,
OSD Federal Register Liaison Officer, DoD.

[FR Doc. 06-4547 Filed 5-15-06; 8:45am]

BILLING CODE 5001-06-M